DEPARTMENT OF AGRICULTURE

Forest Service

Deschutes Provincial Advisory Committee

AGENCY: Forest Service, USDA.

ACTION: Notice of meeting.

SUMMARY: The Deschutes Provincial Advisory Committee (PAC) will meet on January 16, 2002 at the Crook County Library, Broughton Room, 200 E. 2nd Street in Prineville, Oregon. A business meeting will begin at 9:00 am and finish at 3:00 pm. Agenda items will include a discussion on the management implications of the Eastside Screens, Litigation Update, ICBEMP update, PAC Recommendations Regarding The Northwest Forest Plan Successes/Failures, Info Sharing and a Public Forum from 2:30 pm till 3:00 pm. All Deschutes Province Advisory Committee Meetings are open to the public.

FOR FURTHER INFORMATION CONTACT: Mollie Chaudet, Province Liaison, USDA, Bend-Ft. Rock Ranger District, 1230 N.E. 3rd., Bend, OR 97701, Phone (541) 416-6872.

Leslie A.C. Weldon,
Forest Supervisor.

[FR Doc. 01-31909 Filed 12-27-01; 8:45 am]

BILLING CODE 3410-11-M